DEPARTMENT OF TRANSPORTATION

Federal Aviation Administration

14 CFR Part 71

[Airspace Docket No. 01-ASO-4]

Amendment of Class D Airspace and Establishment of Class E4 Airspace; Homestead, FL

AGENCY: Federal Aviation Administration (FAA), DOT.

ACTION: Final rule.

SUMMARY: This action will amend Class D airspace and establish Class E4 airspace at Dade County—Homestead Regional Airport. For containment of instrument approach procedures within controlled airspace at Dade county—Homestead Regional Airport, it was determined that the class D airspace be amended from a 5.5-mile radius of Homestead Airport to a 5-mile radius with the establishment of Class E airspace extensions that are 3 miles wide and extend 7 miles northeast and southwest of the airport.

EFFECTIVE DATE: 0901 UTC, September 6, 2001.

FOR FURTHER INFORMATION CONTACT: Walter R Cochran, Manager, Airspace Branch, Air Traffic Division, Federal Aviation Administration, P.O. Box 20636, Atlanta, Georgia 30320; telephone (404) 305-5586.

SUPPLEMENTARY INFORMATION:

History

On April 30, 2001, the FAA proposed to amend part 71 of the Federal Aviation Regulations (14 CFR part 71) by amending Class D airspace and establishing Class E4 airspace at Homestead, FL (66 FR 21296). Class D airspace designations for airspace areas extending upward from the surface of the earth and Class E airspace designations for airspace areas designated as an extension to a Class D airspace area are published in Paragraphs 5000 and 6004 respectively, of FAA Order 7400.9H, dated September 1, 2000, and effective September 16, 2000, which is incorporated by reference in 14 CFR 71.1. The Class D and Class E airspace designations listed in this document will be published subsequently in the Order.

Interested parties were invited to participate in this rulemaking proceeding by submitting written comments on the proposal to the FAA. No comments objecting to the proposal were received.

The Rule

This amendment to part 71 of the Federal Aviation Regulations (14 CFR part 71) amends Class D airspace and establishes Class E4 airspace at Homestead, FL.

The FAA has determined that this regulation only involves an established body of technical regulations for which frequent and routine amendments are necessary to keep them operationally current. It, therefore, (1) is not a “significant regulatory action” under Executive Order 12866; (2) is not a “significant rule”under DOT Regulatory Policies and Procedures (44 FR 11034; February 26, 1979); and (3) does not warrant preparation of a regulatory evaluation, as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D AND CLASS E AIRSPACE AREAS; AIRWAYS; ROUTE; AND REPORTING POINTS

1. The authority citation for 14 CFR Part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9H, Airspace Designations and Reporting Points, dated September 1, 2000, and effective September 16, 2000, is amended as follows:

Paragraph 5000 Class D Airspace

ASO FL D Homestead, FL [Revised]

Dade County—Homestead Regional Airport, FL

(Lat. 25°29′18″N, long. 80°23′01″W)

That airspace extending upward from the surface to and including 2,500 feet MSL within a 5-mile radius of the Dade County—Homestead Regional Airport.

* * * * *

Paragraph 6004 Class E4 Airspace Areas Designated as an Extension to a Class D Airspace Area

* * * * *

ASO FL E4 Homestead, FL [New]

Dade County—Homestead Regional Airport, FL

(Lat. 25°29′18″N, long. 80°23′01″W

That airspace extending upward from the surface within 1.5 miles each side of the 050° bearing and the 230° bearing from the Dade County—Homestead Regional Airport extending from the 5-mile radius to 7 miles northeast and southwest of the airport.

* * * * *

Issued in College Park, Georgia, on June 5, 2001.
Wade T. Carpenter,
Acting Manager, Air Traffic Division, Southern Region.

[FR Doc. 01-15337 Filed 6-15-01; 8:45 am]

BILLING CODE 4910-13-M